ENVIRONMENTAL PROTECTION AGENCY

[OAR-2003-0018, FRL-7538-2]

Agency Information Collection Activities; Submission of EPA ICR No. 1626.08 (OMB No. 2060-0256) to OMB for Review and Approval; Comment Request

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Refrigerant Recycling and Emissions Reduction Program. This ICR describes the nature of the information collection and its expected burden and cost.

DATES: Additional comments may be submitted on or before September 2, 2003.

ADDRESSES: Follow the detailed instructions in SUPPLEMENTARY INFORMATION.

FOR FURTHER INFORMATION CONTACT: Julius Banks, Global Programs Division, Office of Air and Radiation, Office of Atmospheric Programs; Mail Code 6205J; Environmental Protection Agency; 1200 Pennsylvania Ave., NW; Washington, DC 20460; telephone number: (202) 564-9870; fax number: (202) 565-2096; e-mail address: banks.julius@epa.gov.

SUPPLEMENTARY INFORMATION: EPA has submitted the following ICR to OMB for review and approval according to the procedures prescribed in 5 CFR 1320.12. On March 10, 2003 (68 FR 11389), EPA sought comments on this ICR pursuant to 5 CFR 1320.8(d). EPA received no comments.

EPA has established a public docket for this ICR under Docket ID No. OAR-2003-0018, which is available for public viewing at the Air and Radiation Docket and Information Center in the EPA Docket Center (EPA/DC), EPA West, Room B102, 1301 Constitution Ave., NW, Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at: http://www.epa.gov/edocket. Use EDOCKET to submit or view public comments, access the index listing of the contents of the public docket, and to access those documents in the public docket that are available electronically. Once in the system, select “search,” then key in the docket ID number identified above.

Any comments related to this ICR should be submitted to OMB and EPA within 30 days of this notice, and according to the following detailed instructions: (1) Mail your comments to OMB at: Office of Information and Regulatory Affairs, Office of Management and Budget (OMB), Attention: Desk Officer for EPA, 725 17th Street, NW, Washington, DC 20503, and (2) Submit your comments to EPA online using EDOCKET (our preferred method), by e-mail to: a-and-r-Docket@epa.gov, or by mail to: EPA Docket Center, Environmental Protection Agency, Air and Radiation Docket and Information Center (6102T), 1200 Pennsylvania Ave., NW, Washington, DC 20460.

EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: National Refrigerant Recycling and Emissions Reduction Program (OMB Control Number 2060-0256, EPA ICR Number 1626.08). This is a request to renew an existing approved collection that is scheduled to expire on July 31, 2003. Under OMB regulations, the Agency may continue to conduct or sponsor the collection of information while this submission is pending at OMB.

Abstract: EPA has developed regulations under the Clean Air Act Amendments of 1990 (the Act) establishing standards and requirements regarding the use and disposal of class I and class II ozone-depleting substances used as refrigerants during the service, maintenance, repair, or disposal of refrigeration and air-conditioning equipment. Section 608(c) of the Act states that effective July 1, 1992, it is unlawful for any person in the course of maintaining, servicing, repairing, or disposing of refrigeration or air-conditioning equipment to knowingly vent or otherwise knowingly release or dispose of any class I or class II substance used as a refrigerant in the equipment in a manner which permits the substance to enter the environment.

During 1993, EPA promulgated regulations under section 608 of the Act for the recycling of ozone-depleting refrigerants recovered during the servicing and disposal of air-conditioning and refrigeration equipment. These regulations were published on May 14, 1993 (58 FR 28660) and codified in 40 CFR part 82, subpart F (82.150 et seq.).

The regulations require persons servicing refrigeration and air-conditioning equipment to observe certain service practices that reduce emissions of ozone depleting refrigerants. The regulations also establish certification programs for technicians, recycling and recovery equipment, and off-site refrigerant reclaimers. In addition, EPA requires that ozone depleting refrigerants contained “in bulk” in appliances be removed prior to disposal of the appliances and that all refrigeration and air-conditioning equipment, except for small appliances and room air conditioners, be provided with a servicing aperture that facilitates recovery of the refrigerant. Moreover, the Agency requires that substantial refrigerant leaks in equipment be repaired when they are discovered. These regulations significantly reduce emissions of ozone depleting refrigerants, and therefore aid U.S. and global efforts to minimize damage to the ozone layer and the environment as a whole.

To facilitate compliance with and enforcement of section 608 requirements, EPA requires reporting and record keeping requirements of technicians; technician certification programs; equipment testing organizations; refrigerant wholesalers and purchasers; refrigerant reclaimers; refrigeration and air-conditioning equipment owners; and other establishments that perform refrigerant removal, service, or disposal. The record keeping requirements and periodic submission of reports, to EPA's Office of Air and Radiation, Office of Atmospheric Programs, occur on an annual, biannual, onetime, or occasional basis depending on the nature of the reporting entity and the length of time that the entity has been in service. Specific reporting and record keeping requirements were published in 58 FR 28660 and codified under 40 CFR part 82, subpart F (82.166). These reporting and recordkeeping requirements also allow EPA to evaluate the effectiveness of the refrigerant regulations, and help the Agency determine if we are meeting the obligations of the United States, under the 1987 Montreal Protocol, to reduce use and emissions of ozone-depleting substances to the lowest achievable level.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average: 18 hours for the two EPA-approved refrigerant recovery/recycling equipment testing organizations; 3,375 hours for an estimated 2,250 service establishments that will change ownership or enter the market; 375 hours for an estimated 375 disposal establishments that change ownership or enter the market; 67,500 hours for the maintenance of copies of signed statements by an estimated 7,500 disposal establishments; 20 hours for certification of an estimated 4 refrigerant reclaimers that change ownership or enter the market; 275 hours for reclaimer reporting from an estimated 55 respondents; 40,000 hours for an estimated 5,000 refrigerant wholesalers to maintain records of refrigerant sales transactions; 150 hours for an estimated 5 technician certification programs applying for first-time approval; 1,552 hours for 97 technician certification programs to maintain records; 90,000 hours for an estimated 30,000 technicians acquiring certification for the first time and maintaining certification cards; 6,000 hours for an estimated 300,000 previously certified technicians to maintain their certification cards; 56 hours for an estimated 10 owners of industrial process refrigeration equipment (appliances) who request a 30-day extension to the 30-day leak repair requirement or the retrofit requirement; 1,360 hours for an estimated 310 owners of industrial process refrigeration and commercial and comfort cooling equipment (appliances) who maintain information on purged/destroyed refrigerant that they wish to exclude from their leak rate calculations, records on the calculation of the full charge using a range, or plans to retire or retrofit their appliances.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially regulated by this action are those that recover, recycle, reclaim, sell, or distribute in interstate commerce refrigerants that contain chlorofluorocarbons (CFCs) and/or hydrochlorofluorocarbons (HCFCs); and those that service, maintain, repair, or dispose of appliances containing CFC or HCFC-refrigerants. In addition, the owners or operators of appliances containing CFC or HCFC-refrigerants may be potentially regulated.

Estimated Number of Respondents: 345,608.

Frequency of Response: Reporting requirements under this rulemaking are primarily required on an annual basis, with the exception of technician testing organizations who are required to report biannually. The frequency of recordkeeping requirements under this rulemaking vary depending upon the actions of the respondent but are generally required on a transactional basis.

Estimated Total Annual Hour Burden: 210,681.

Estimated Total Annual Cost: $6,973,541, includes $0 annualized capital or O&M costs.

Changes in the Estimates: There is a decrease of 208,865 hours in the total estimated burden currently identified in the OMB Inventory of Approved ICR Burdens. This decrease is not due to a change in any program requirement. The adjustment is the result of changes in EPA's estimates of labor rates, time required to submit reports and maintain records, and the overall number of respondents.

Dated: July 22, 2003.
Doreen Sterling,
Acting Director, Collection Strategies Division.

[FR Doc. 03-19503 Filed 7-30-03; 8:45 am]

BILLING CODE 6560-50-P